DEPARTMENT OF HOMELAND SECURITY

Federal Emergency Management Agency

44 CFR Part 65

Changes in Flood Elevation Determinations

AGENCY: Federal Emergency Management Agency, DHS.

ACTION: Final rule.

SUMMARY: Modified Base (1 % annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona:
Maricopa (FEMA Docket No.: B-7772) | Unincorporated areas of Maricopa County (07-09-1354P) | January 10, 2008; January 17, 2008; Arizona Business Gazette | The Honorable Fulton Brock, Chairman, Maricopa County, Board of Supervisors, 301 West Jefferson Street, 10th Floor, Phoenix, AZ 85003 | January 4, 2008 | 040037
Maricopa (FEMA Docket No.: B-7772) | City of Phoenix (07-09-1713P) | January 3, 2008; January 10, 2008; Arizona Business Gazette | The Honorable Phil Gordon, Mayor, City of Phoenix, 200 West Washington Street, 11th Floor, Phoenix, AZ 85003 | January 14, 2008 | 040051
Mohave (FEMA Docket No.: B-7772) | City of Kingman (07-09-0639P) | January 24, 2008; January 31, 2008; The Kingman Daily Miner | The Honorable Lester Byram, Mayor, City of Kingman, 310 North Fourth Street, Kingman, AZ 86401 | May 1, 2008 | 040060
Yavapai (FEMA Docket No.: B-7772) | Town of Prescott (07-09-1453P) | January 3, 2008; January 10, 2008; Prescott Daily Courier | The Honorable Harvey C. Skoog, Mayor, Town of Prescott Valley, 7501 East Civic Circle, Prescott Valley, AZ 86314 | December 14, 2007 | 040121
Yavapai (FEMA Docket No: B-7766) | Unincorporated areas of Yavapai County (07-09-1369P) | December 13, 2007; December 20, 2007; Prescott Daily Courier | The Honorable Chip Davis, Chairman, Yavapai County Board of Supervisors, 1015 Fair Street, Prescott, AZ 86305 | March 20, 2008 | 040093
Yavapai (FEMA Docket No.: B-7772) | Unincorporated areas of Yavapai County (07-09-1440P) | January 10, 2008; January 17, 2008; Prescott Daily Courier | The Honorable Chip Davis, Chairman, Yavapai County Board of Supervisors, 1015 Fair Street, Prescott, AZ 86305 | April 17, 2008 | 040093
California:
San Diego (FEMA Docket No.: B-7772) | City of Chula Vista (07-09-1325P) | January 10, 2008; January 17, 2008; San Diego Daily Transcript | The Honorable Cheryl Cox, Mayor, City of Chula Vista, 276 Fourth Avenue, Chula Vista, CA 91910 | December 27, 2007 | 065021
Shasta (FEMA Docket No.: B-7772) | City of Anderson (07-09-1860P) | January 9, 2008; January 16, 2008; Anderson Valley Post | The Honorable Keith Webster, Mayor, City of Anderson, 1887 Howard Street, Anderson, CA 96007 | April 16, 2008 | 060359
Yuba (FEMA Docket No.: B-7772) | Unincorporated areas of Yuba County (07-09-1893P) | January 10, 2008; January 17, 2008; The Appeal-Democrat | The Honorable Hal Stocker, Chairman, Yuba County Board of Supervisors, 915 Eighth Street, Suite 109, Marysville, CA 95901 | December 26, 2007 | 060427
Florida: Collier (FEMA Docket No.: B-7776) | City of Naples (07-04-6595P) | February 7, 2008; February 14, 2008; Naples Daily News | The Honorable Bill Barnett, Mayor, City of Naples, 735 Eighth Street South, Naples, FL 34102 | January 28, 2008 | 125130
Georgia: Columbia (FEMA Docket No.: B-7772) | Unincorporated areas of Columbia County (07-04-2731P) | December 26, 2007; January 2, 2008; Columbia County News-Times | The Honorable Ron C. Cross, Chairman, Columbia County Board of Commissioners, P.O. Box 498, Evans, GA 30809 | April 2, 2008 | 130059
Illinois:
Clinton (FEMA Docket No.: B-7772) | Unincorporated areas of Clinton County (07-05-6034P) | January 24, 2008; January 31, 2008; The Breese Journal | The Honorable Ray Kloeckner, Chairman, Clinton County Board of Directors, 4626 Court Road, Germantown, IL 62245 | January 10, 2008 | 170044
DuPage (FEMA Docket No.: B-7766) | Unincorporated areas of DuPage County (07-05-2642P) | December 13, 2007; December 20, 2007; Daily Herald | The Honorable Robert J. Schillerstorm, Chairman, DuPage County Board, 505 North County Farm Road, Wheaton, IL 60187 | March 20, 2008 | 170197
Lake (FEMA Docket No.: B-7772) | Unincorporated areas of Lake County (06-05-BR72P) | January 10, 2008; January 17, 2008; Lake County News-Sun | The Honorable Suzi Schmidt, Chairman, Lake County Board of Commissioners, 18 North County Street, Room 1001, Waukegan, IL 60085 | April 17, 2008 | 170357
Will (FEMA Docket No.: B-7772) | Village of Plainfield (07-05-5056P) | January 3, 3008; January 10, 2008; Herald News | The Honorable James A. Waldorf, President, Village of Plainfield, 24401 West Lockport Street, Plainfield, IL 60544 | December 11, 2007 | 170771
Indiana: Miami (FEMA Docket No.: B-7772) | City of Peru (08-05-0338P) | December 13, 2007; December 20, 2007; Peru Tribune | The Honorable James R. Walker, Mayor, City of Peru, 35 South Broadway, Peru, IN 46970 | December 31, 2007 | 180168
Iowa: Dallas and Polk (FEMA Docket No.: B-7772) | City of Clive (07-07-1800P) | January 18, 2008; January 25, 2008; The Des Moines Register | The Honorable Les Aasheim, Mayor, City of Clive, 1900 Northwest 114th Street, Clive, IA 50325 | April 25, 2008 | 190488
North Carolina:
Wake (FEMA Docket No. B-7776) | City of Raleigh (07-04-3146P) | February 4, 2008; February 11, 2008; The News & Observer | The Honorable Charles Meeker, Mayor of the City of Raleigh, P.O. Box 590, Raleigh, North Carolina 27602 | February 29, 2008 | 370243
Wake (FEMA Docket No. B-7776) | City of Raleigh (07-04-4250P) | February 7, 2008; February 14, 2008; The News & Observer | The Honorable Charles Meeker, Mayor, City of Raleigh, P.O. Box 590, 222 West Hargett Street, Raleigh, North Carolina 27602 | May 14, 2008 | 370243
Wake (FEMA Docket No. B-7776) | Town of Wake Forest (07-04-4250P) | February 7, 2008; February 14, 2008; The Wake Weekly | The Honorable Vivian Jones, Mayor, Town of Wake Forest, 401 Elm Avenue, Wake Forest, North Carolina 27587 | May 14, 2008 | 370244
North Dakota:
Burleigh (FEMA Docket No.: B-7772) | City of Bismark (07-08-0142P) | January 10, 2008; January 17, 2008; Bismark Tribune | The Honorable John Warford, Mayor, City of Bismarck, P.O. Box 5503, Bismarck, ND 58506-5503 | April 17, 2008 | 380149
Burleigh (FEMA Docket No.: B-7772) | Unincorporated areas of Burleigh County (07-08-0142P) | January 10, 2008; January 17, 2008; Bismark Tribune | The Honorable Marlan Haakenson, Chairman, Burleigh County Commission, 115 South Griffin Street, Bismarck, ND 58504-5309 | April 17, 2008 | 380017
Oregon:
Clackamas, Multnomah, Washington (FEMA Docket No.: B-7772) | City of Portland (07-10-0004P) | January 9, 2008; January 16, 2008; The Gresham Outlook | The Honorable Tom Potter, Mayor, City of Portland, 1221 Southwest Fourth Avenue, Suite 340, Portland, OR 97204 | January 28, 2008 | 410183
Clackamas (FEMA Docket No.: B-7766) | City of Wilsonville (07-10-0469P) | December 12, 2007; December 19, 2007; Wilsonville Spokesman | The Honorable Charlotte Lehan, Mayor, City of Wilsonville, 29786 Southwest Lehan Court, Wilsonville, OR 97070 | December 31, 2007 | 410025
South Carolina: Lexington (FEMA Docket No.: B-7772) | Lexington County (07-04-5473P) | December 6, 2007; December 13, 2007; Lexington County Chronicle | The Honorable William C. “Billy” Derrick, Chairman, Lexington County Council, 212 South Lake Drive, Lexington, SC 29072 | March 13, 2008 | 450129
Texas:
Collin (FEMA Docket No.: B-7772) | City of Allen (07-06-2412P) | January 10, 2008; January 17, 2008; The Allen American | The Honorable Stephen Terrell, Mayor, City of Allen, 305 Century Parkway, Allen, TX 75013 | April 17, 2008 | 480131
Collin (FEMA Docket No.: B-7772) | City of Celina (08-06-0373P) | January 3, 2008; January 10, 2008; The Celina Record | The Honorable Corbett Howard, Mayor, City of Celina, 302 West Walnut Street, Celina, TX 75009 | December 26, 2007 | 480133
Collin (FEMA Docket No.: B-7766) | City of McKinney (07-06-1354P) | December 13, 2007; December 20, 2007; McKinney Courier-Gazette | The Honorable Bill Whitfield, Mayor, City of McKinney, 222 North Tennessee Street, McKinney, TX 75070 | March 20, 2008 | 480135
Kaufman (FEMA Docket No.: B-7772) | City of Terrell (07-06-1906P) | January 10, 2008; January 17, 2008; The Terrell Tribune | The Honorable Hal Richards, Mayor, City of Terrell, P.O. Box 310, Terrell, TX 75160 | December 31, 2007 | 480416
Montgomery (FEMA Docket No.: B-7772) | Unincorporated areas of Montgomery County (06-06-B643P) | January 9, 2008; January 16, 2008; The Montgomery County News | The Honorable Alan B. Sadler, Montgomery County Judge, 301 North Thompson Street, Suite 210, Conroe, TX 77301 | April 9, 2008 | 480483
Travis (FEMA Docket No.: B-7772) | Unincorporated areas of Travis County (07-06-02514P) | January 10, 2008; January 17, 2008; Austin American-Statesman | The Honorable Samuel T. Biscoe, Travis County Judge, P.O. Box 1748, Austin, TX 78767 | April 17, 2008 | 481026
Williamson (FEMA Docket No.: B-7772) | Town of Hutto (07-06-0731P) | January 10, 2008; January 17, 2008; Round Rock Leader | The Honorable Kenneth L. Love, Mayor, Town of Hutto, 401 West Front Street, Hutto, TX 78634 | April 17, 2008 | 481047

(Catalog of Federal Domestic Assistance No. 97.022, “Flood Insurance.”)

Dated: July 3, 2008.
Michael K. Buckley,
Deputy Assistant Administrator for Mitigation, Department of Homeland Security, Federal Emergency Management Agency.

[FR Doc. E8-15980 Filed 7-11-08; 8:45 am]

BILLING CODE 9110-12-P